ENVIRONMENTAL PROTECTION AGENCY

40 CFR Part 52

[EPA-R01-OAR-2017-0025; FRL-9967-29-Region 1]

Air Plan Approval; Rhode Island; Reasonably Available Control Technology for US Watercraft, LLC; Withdrawal of Direct Final Rule

AGENCY: Environmental Protection Agency.

ACTION: Withdrawal of direct final rule.

SUMMARY: Due to the receipt of an adverse comment, the Environmental Protection Agency (EPA) is withdrawing the July 3, 2017, direct final rule approving a State Implementation Plan (SIP) revision submitted by the State of Rhode Island. The revision consists of a reasonably available control technology (RACT) approval for a volatile organic compound (VOC) emission source in Rhode Island, specifically, US Watercraft, LLC. This action is being taken in accordance with the Clean Air Act.

DATES: The direct final rule published on July 3, 2017 (82 FR 30747), is withdrawn effective September 1, 2017.

FOR FURTHER INFORMATION CONTACT: David L. Mackintosh, Air Quality Planning Unit, U.S. Environmental Protection Agency, EPA New England Regional Office, 5 Post Office Square—Suite 100, (Mail Code OEP05-2), Boston, MA 02109-3912, tel. 617-918-1584, email mackintosh.david@epa.gov.

SUPPLEMENTARY INFORMATION: In the direct final rule, EPA stated that if adverse comments were submitted by August 2, 2017, the rule would be withdrawn and not take effect. EPA received an adverse comment prior to the close of the comment period and, therefore, is withdrawing the direct final rule. EPA will address the comment in a subsequent final action based upon the proposed rule also published on July 3, 2017 (82 FR 30815). EPA will not institute a second comment period on this action.

List of Subjects in 40 CFR Part 52

Environmental protection, Air pollution control, Incorporation by reference, Intergovernmental relations, Ozone, Reporting and recordkeeping requirements, Volatile organic compounds.

Dated: August 10, 2017.
Deborah A. Szaro,
Acting Regional Administrator, EPA New England.

PART 52—APPROVAL AND PROMULGATION OF IMPLEMENTATION PLANS

Accordingly, the amendments to 40 CFR 52.2070 published in the Federal Register on July 3, 2017 (82 FR 30747) on page 30749 are withdrawn effective September 1, 2017.

[FR Doc. 2017-18618 Filed 8-31-17; 8:45 am]

BILLING CODE 6560-50-P